DEPARTMENT OF THE INTERIOR

National Park Service

[NPS-WASO-NRNHL-13359; PPWOCRADI0, PCU00RP14.R50000]

National Register of Historic Places; Notification of Pending Nominations and Related Actions

Nominations for the following properties being considered for listing or related actions in the National Register were received by the National Park Service before June 15, 2013. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by July 24, 2013. Before including your address, phone number, email address, or other personal identifying information in your comment, you should be aware that your entire comment—including your personal identifying information—may be made publicly available at any time. While you can ask us in your comment to withhold your personal identifying information from public review, we cannot guarantee that we will be able to do so.

Dated: June 19, 2013.
J. Paul Loether,
Chief, National Register of Historic Places/National Historic Landmarks Program.

ALASKA

Southeast Fairbanks Borough—Census Area

Alaska—Canada Military Highway, W. of Alaska Hwy., approx. 37 mi. SE. of Delta Junction, Delta Junction, 13000543

ARIZONA

Maricopa County

Tempe Municipal Building, 31 E. 5th St., Tempe, 13000544

Pima County

Bell, Maynard and Evelyn, House, (Residences of Thomas Gist in Southern Arizona MPS) 5880 N. Cerrada Circa, Tucson, 13000546

Casa Juan Paisano, 3300 E. Camino Juan Paisano, Tucson, 13000545

Miller, Steve and Elizabeth, House, (Residences of Thomas Gist in Southern Arizona MPS) 12650 E. 5th St., Tucson, 13000547

Riecke House, (Residences of Thomas Gist in Southern Arizona MPS) 835 N. Barbara Worth Dr., Tucson, 13000548

Stevens House, (Residences of Thomas Gist in Southern Arizona MPS) 525 W. Golf View Dr., Oro Valley, 13000549

Von Isser House, (Residences of Thomas Gist in Southern Arizona MPS) 4949 E. Glenn St., Tucson, 13000550

CALIFORNIA

Los Angeles County

Women's Twentieth Century Club of Eagle Rock, 5105 Hermosa Ave., Los Angeles, 13000551

Tulare County

Visalia Fox Theater, 308 W. Main St., Visalia, 13000552

COLORADO

Chaffee County

Brown's Canyon Bridge, (Highway Bridges in Colorado MPS) Cty. Rd. 191 crossing the Arkansas R., Salida, 13000554

ILLINOIS

Cook County

Hyatt House Hotel, 4500 W. Touhy Ave., Lincolnwood, 13000553

West Argyle Street Historic District (Boundary Increase), N. Broadway & E. block face of N. Sheridan Rd. between W. Argyle St. & W. Winona Ave., Chicago, 13000555

KENTUCKY

Daviess County

Krahwinkel, Thomas, House, 10501 US 60, Owensboro, 13000556

Franklin County

South Frankfort Neighborhood Historic District (Boundary Increase), Roughly bounded by US 60, Taylor Ave., Kentucky R. & Tanglewood Subdivision, Frankfort, 13000557

Jefferson County

Abbott, Leslie V., House, 2401 Newburg Rd., Louisville, 13000558

Hogan's Fountain Pavilion, Address Restricted, Louisville, 13000559

Kurfees Paint Company, 201 E. Market St., Louisville, 13000560

University of Louisville Library, 2200 S. First Street Walk, Louisville, 13000561

Kenton County

Lincoln—Grant School, 824 Greenup St., Covington, 13000562

Letcher County

Little Creek Pictographs, (Prehistoric Rock Art Sites in Kentucky MPS) Address Restricted, Hemphill, 13000563

McCracken County

Paducah Coca-Cola Bottling Plant, 3121 Broadway, Paducah, 13000564

Rockcastle County

Great Saltpetre Cave, 237 Saltpetre Cave Rd., Mt. Vernon, 13000565

Scott County

Sadieville Historic District, 100-326 College, 100-245 Main, 350-714 Pike, 216 Church, 204 Cunningham & 100-247 Vine Sts., 109-123 Gano Ave., Sadieville, 13000566

Wayne County

Wayne County High School, 80 A.J. Lloyd Cir., Monticello, 13000567

MISSOURI

St. Louis Independent city

Bevo Mill Historic District, 4648-5003 Gravois Ave., 4719-4767 Morgan Ford Rd., St. Louis (Independent City), 13000568

RHODE ISLAND

Newport County

First Baptist Church of Tiverton, 7 Old Stone Church Rd., Tiverton, 13000569

SOUTH DAKOTA

Bennett County

Inland Theater, 306 Main, Martin, 13000570

Butte County

First Congregational United Church of Christ, 717 Jackson, Belle Fourche, 13000571

Campbell County

Wientjes Barn and Ranch Yard, 11703 299th Ave., Mound City, 13000572

Gregory County

Gregory National Bank, 524 Main, Gregory, 13000573

[FR Doc. 2013-16353 Filed 7-8-13; 8:45 am]

BILLING CODE 4312-51-P